DEPARTMENT OF THE INTERIOR

Office of the Secretary

[20XD4523WS, DS61200000, DWSN00000.000000, DP61202]

Draft Invasive Species Strategic Plan; Tribal and Alaska Native Corporation Consultations, Public Listening Sessions and Request for Public Comments

AGENCY: Office of the Secretary, Interior.

ACTION: Notice of planning document with teleconference consultations with Tribes and Alaska Native Corporations, teleconference public listening sessions and public comment.

SUMMARY: Pursuant to the John D. Dingell Jr., Conservation, Management and Recreation Act of 2019 (Pub. L. 116-9), notice is hereby given of the development of the U.S. Department of the Interior Invasive Species Strategic Plan.

DATES: A teleconference consultation with Tribes will be held on September 17, 2020 at 4:00 p.m. Eastern. A teleconference consultation with Alaska Native Corporations will be held on September 22 at 4:00 p.m. Eastern. RSVPs are required to participate in these sessions and must be received by 5:00 p.m. Eastern, September 14. Teleconference listening sessions for other interested parties and the public will be held on September 24 at 4:00 p.m. Eastern and September 28 at 4:00 p.m. Eastern. RSVPs are required to participate and must be received by 5:00 p.m. Eastern, September 21. Written comments must be submitted online or by mail by 11:59 p.m. Eastern, October 9, 2020. For more information, including on how to RSVP, see SUPPLEMENTARY INFORMATION.

ADDRESSES: Written comments will be accepted online only at http://www.regulations.gov by entering “DOI-2020-0007” in the Search bar and clicking “Search” or by mail to U.S. Department of the Interior, Office of Policy Analysis—Mailstop 3530, ATTN: Invasive Species Comments, 1849 C Street NW, Washington DC, 20240.

SUPPLEMENTARY INFORMATION: The Department of the Interior's (Interior) Draft Invasive Species Strategic Plan (Plan) and other related information are posted on Interior's website at https://www.doi.gov/ppa/doi-invasive-species-strategic-plan.

To RSVP for the Tribal, Alaska Native Corporation, or public teleconference sessions, please enter your contact information into the following form: https://tinyurl.com/tfgu83p. Call-in details for the sessions will be provided to registered participants in advance of the calls. Consultations with Tribes and Alaska Native Corporations are also being noticed through Dear Leader Letters.

The John D. Dingell, Jr. Conservation, Management and Recreation Act (Act) (Pub. L. 116-9) was enacted on March 12, 2019. Title VII Section 7001 of the Act directs relevant Secretaries to take actions concerning invasive species; this includes direction to each Secretary concerned to develop a strategic plan for the implementation of the invasive species program to achieve, to the maximum extent practicable, a substantive annual net reduction of invasive species populations or infested acreage on land or water managed by the Secretary concerned. The Act directed that the Plan be developed in coordination with affected eligible States, political subdivisions of eligible States, in consultation with Federally recognized Indian tribes and in accordance with the priorities of Governors of eligible States. The Act is available at: https://www.congress.gov/116/bills/s47/BILLS-116s47enr.pdf.

To inform the Plan's development, Interior held a series of teleconference listening sessions in November 2019 with Federally recognized Indian tribes, State, county and territorial governments, Alaska Native Corporations and the Native Hawaiian Community. The purpose of the sessions was for Interior to gain perspectives on topics including, but not limited to, priority invasive species of greatest concern to address to protect valued natural, economic and cultural resources; opportunities to address invasive species at a meaningful scale to achieve effective outcomes; interjurisdictional efforts needed to prevent, detect, eradicate and control invasive species; opportunities to fulfill Trust responsibilities; and specific areas of interest to emphasize in the Plan. Written comments were also accepted. Input received at the onset of the Plan's development informed the Plan's mission, vision, goals, objectives and strategies.

The Plan is intended to: Comply with the Act's mandate for Interior to develop an Interior-wide Plan; be broad enough to reflect Interior's depth and breadth of work underway; coordinate with and build upon existing efforts; complement existing plans, e.g., bureau and interagency plans, and reporting efforts; be implemented in collaboration with States, Tribes, territories, local governments, other Federal agencies and others, as appropriate, and be implemented within existing authorities and available resources.

The scope of the Plan includes goals, objectives, strategies and metrics; ongoing work and opportunities to focus on emerging priorities; actions both on Interior-managed lands and waters and on lands and waters managed by others but for which Interior has a mandate; a spectrum of strategies, invasive species and scales of implementation; and a five-year timeline, beginning in Fiscal Year 2021, to be reviewed every five years.

Consultation and teleconference listening sessions on the draft Plan, together with any written comments received, will aid Interior in refining the Plan.

An overview of the Plan and process to develop it will be provided during the teleconference sessions. The majority of the time will be made available for comment. Input to gain on the draft Plan includes but is not limited to the following topics:

• Are the mission, vision, goals, objectives and strategies clear as written, and if not, what clarifications should be made?

• Do the goals, objectives and strategies build in sufficient flexibility for implementation to meet the needs of ongoing and emerging efforts, and if not, how should they be adjusted?

• Do the goals, objectives and strategies emphasize the importance of collaboration to advance mutual priorities of Tribal, State, local and territorial governments and partners, and if not, how should they be adjusted?

• Based on the objectives, what metrics would be most useful to track progress against the objectives?

• Are there any major omissions in the draft that should be addressed, and if so, what are they?

For further information, contact Hilary Smith, Senior Advisor for Invasive Species, (202) 763-3118; email: invasives_strategic_plan@ios.doi.gov.

Note: As part of the teleconference sessions, participants will be required to provide their name, title, organization and telephone number to the operator before being connected.

Please note the following URLs associated with this Federal Register Notice:

1. John D. Dingell, Jr. Conservation, Management and Recreation Act: https://www.congress.gov/116/bills/s47/BILLS-116s47enr.pdf

2. Draft Plan: https://www.doi.gov/ppa/doi-invasive-species-strategic-plan

3. Regulations website for submitting written comments: https://www.regulations.gov

4. Required registration for consultation and listening sessions: https://tinyurl.com/tfgu83p

Public Availability of Comments

Before including your address, phone number, email address or other personal identifying information in your comment, you should be aware that your entire comment—including your personal identifying information—may be made publicly available at any time. While you can ask us in your comment to withhold your personal identifying information from public review, we cannot guarantee that we will be able to do so.

Authority: John D. Dingell, Jr. Conservation, Management and Recreation Act (Public Law 116-9).

Hilary Smith,
Senior Advisor for Invasive Species, Office of Policy Analysis, Office of the Secretary.

[FR Doc. 2020-17740 Filed 8-12-20; 8:45 am]

BILLING CODE 4334-63-P